DEPARTMENT OF COMMERCE

National Oceanic and Atmospheric Administration

Stellwagen Bank National Marine Sanctuary Final Revised Management Plan: Notice of Availability

AGENCY: Office of National Marine Sanctuaries (ONMS), National Ocean Service (NOS), National Oceanic and Atmospheric Administration (NOAA), Department of Commerce (DOC).

ACTION: Notice of availability.

SUMMARY: The final revised management plan for the Stellwagen Bank National Marine Sanctuary (SBNMS) has been approved and is now available. This plan is the result of a multi-year review at the SBNMS and ONMS, and included extensive public, as well as state, local and other Federal agency involvement. The plan is available for download on the Web site: http://stellwagen.noaa.gov. For a hard copy or data CD of the plan contact the sanctuary office at the contact number identified below.

DATES: The final revised management plan is available to the public on June 17, 2010.

FOR FURTHER INFORMATION CONTACT: Anne Smrcina, Stellwagen Bank National Marine Sanctuary, 175 Edward Foster Road, Scituate, MA 02066; 781-545-8026; anne.smrcinanoaa.gov.

Dated: June 14, 2010.
Daniel J. Basta,
Director, Office of National Marine Sanctuaries.

[FR Doc. 2010-15097 Filed 6-23-10; 8:45 am]

BILLING CODE 3510-22-M